DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995, this notice announces that the Information Collection Request (ICR) abstracted below will be submitted to the Office of Management and Budget (OMB) for review. The ICR describes the nature of the information collection and its expected burden.

DATES: Submit comments to the Office of Management and Budget (OMB) on or before July 30, 2012.

FOR FURTHER INFORMATION CONTACT: Ms. Carole Guzzetta at the National Highway Traffic Safety Administration, Office of Impaired Driving and Occupant Protection, W44-219, Department of Transportation, 1200 New Jersey Avenue SE., Washington, DC 20590. Ms. Guzzetta's phone number is 202-366-3665 and her email address is carole.guzzetta@dot.gov.

SUPPLEMENTARY INFORMATION: A Federal Register Notice with a 60-day comment period soliciting public comments on the following information collection was published on December 16, 2011 (Federal Register/Vol. 76, No. 242/pp. 78334-78335).

OMB Control Number: 2127-New.

Title: Effectiveness of Child Passenger Safety Information for the Safe Transportation of Children.

Form No.: NHTSA Form 1174.

Type of Review: Regular.

Respondents: Parents and caregivers of children less than 13 years of age will respond to a series of questions after viewing child passenger safety messages.

Estimated Number of Respondents: 600 participants will be recruited for the testing sessions.

Estimated Time Per Response: 75 minutes per testing session.

Total Estimated Annual Burden Hours: 750 hours.

Frequency of Collection: The survey will be administered a single time.

Abstract: The National Highway Traffic Safety Administration (NHTSA) proposes to collect information from parents and caregivers of children less than 13 years of age about their knowledge, behavior, and perceptions of various child passenger safety (CPS) messages. Demographic information about the participants will also be collected. Participation in the study will be voluntary. Parents and caregivers will be recruited at various urban, suburban, and rural locations where they often go with child passengers (e.g., child care centers). They will be asked to participate in the study which will require them to go to a computer lab center, read CPS messages and respond to questions about these messages using touch-screen computers to reduce survey length and minimize recording errors. No personally identifiable information will be collected during the study. NHTSA will use the findings from this proposed collection of information to better understand how information and perceptions of CPS messages influence parents and caregivers to seek the most appropriate restraint systems for their children (less than 13 years of age). Findings of the study may be used to revise current CPS messages being publicized in the nation.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. 3506(c)(2)(A).

Issued in Washington, DC, on June 25, 2012.
Jeff Michael,
Associate Administrator, Research and Program Development, National Highway Traffic Safety Administration.

[FR Doc. 2012-15914 Filed 6-27-12; 8:45 am]

BILLING CODE 4910-59-P